DEPARTMENT OF ENERGY

Federal Energy Regulatory Commission

[Docket No. RP95-363-020]

El Paso Natural Gas Company; Notice of Report of Rate Refunds and Fuel Adjustments

September 7, 2000.

Take notice that on August 31, 2000, El Paso Natural Gas Company (El Paso) tendered for filing its Report of Rate Refunds and Fuel Adjustments at Docket No. RP95-363-002, et al.

El Paso states that the Report of Rate Refunds and Fuel Adjustments reflects that on August 1, 2000, El Paso distributed refunds totaling $3,584,943.81, inclusive of interest, to eligible shippers. The Report also reflects that on August 11, 2000, El Paso made adjustments to shippers' imbalance accounts for fuel charges assessed, as applicable, to reflect revised fuel charges for the period July 1, 1999 through June 30, 2000. The adjustments totaled 247,744 MMBtu owed to shippers.

El Paso states that copies of the document were served upon all affected customers and state regulatory commissions.

Any person desiring to protest said filing should file a protest with the Federal Energy Regulatory Commission, 888 First Street, NE., Washington, DC 20426, in accordance with Section 385.211 of the Commission's Rules and Regulations. All such protests must be filed on or before September 14, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-23445 Filed 9-12-00; 8:45 am]

BILLING CODE 6717-01-M